DEPARTMENT OF AGRICULTURE

Rural Business-Cooperative Service

7 CFR Part 4280

Rural Microentrepreneur Assistance Program

AGENCY: Rural Business-Cooperative Service, USDA.

ACTION: Interim rule; correction.

SUMMARY: The Agency published a document in the Federal Register of May 28, 2010, establishing a technical and financial assistance program for qualified microenterprise development organizations to support microentrepreneurs in the development and ongoing success of rural microenterprises. This document corrects the Office of Management and Budget (OMB) control number assigned to the collection of information approved by OMB for the interim rule.

DATES: Effective on June 28, 2010.

FOR FURTHER INFORMATION CONTACT: Lori Washington, (202) 720-9815.

SUPPLEMENTARY INFORMATION: As published, the interim rule references the OMB control number assigned for the collection of information as 0570-XXXX under the Paperwork Reduction Act section and in § 4280.400. The correct reference should read: 0570-0062.

In the Federal Register of May 28, 2010 (75 FR 30114), in FR Doc. 2010-11931, make the correction in the following places:

1. On page 30115, column 1, under the heading “Paperwork Reduction Act,” lines 8 and 21, revise the reference “0570-XXXX” to read “0570-0062”; and

2. On page 30158, column 3, line 6, under “§ 4280.400,” revise the reference “0570-XXXX” to read “0570-0062”.

Judith A. Canales,
Administrator, Rural Business-Cooperative Service.

[FR Doc. 2010-14160 Filed 6-11-10; 8:45 am]

BILLING CODE 3410-XY-P